DEPARTMENT OF AGRICULTURE

Foreign Agricultural Service

Trade Adjustment Assistance for Farmers

AGENCY: Foreign Agricultural Service, USDA.

ACTION: Notice.

The Administrator of the Foreign Agricultural Service (FAS) has denied a petition (No. 2011029) for trade adjustment assistance for lamb filed under the fiscal year (FY) 2011 program by the Montana Wool Growers Association. The petition was accepted for review by USDA on July 23, 2010.

SUPPLEMENTARY INFORMATION: To qualify under the program, Subtitle C of Title I of the Trade Act of 2002 (Pub. L. 107-210) states that petitions must demonstrate, using data for the most recent, full marketing year or full official marketing season, a greater than 15-percent decline in at least one of the following factors: national average price, quantity of production, value of production, or cash receipts.

According to the statute, it is also necessary for the petition to demonstrate that an increase in imports of like or directly competitive articles, during the same marketing period, contributed importantly to the decrease in one of the above factors for the agricultural commodity.

All petitions were analyzed by USDA's Economic Research Service and reviewed by the Trade Adjustment Assistance (TAA) for Farmers Program Review Committee, comprised of representatives from USDA's Office of the Chief Economist, Farm Service Agency, Agricultural Marketing Service, and FAS. After a review, the Administrator determined that the petition was unable to demonstrate the `greater than 15-percent decline' criterion, because it showed a 6-percent decline in the quantity of production for 2009, when compared to the previous 3-year period. Additionally, the import data provided for the same time periods showed a 10.9-percent decrease, instead of the required increase, under the program.

Because the petition was unable to meet the `greater than 15-percent decline' criterion and the `increase in imports' criterion, the Administrator was not able to certify the petition, making lamb producers in Montana ineligible for trade adjustment assistance in FY 2011.

FOR FURTHER INFORMATION CONTACT: Trade Adjustment Assistance for Farmers Program Staff, Office of Trade Programs, FAS, USDA; or by phone at (202) 720-0638 or (202) 690-0633; or by e-mail at: tradeadjustment@fas.usda.gov; or visit the TAA for Farmers' Web site at: http://www.fas.usda.gov/itp/taa.

Dated: September 20, 2010.
John D. Brewer,
Administrator, Foreign Agricultural Service.

[FR Doc. 2010-24320 Filed 9-27-10; 8:45 am]

BILLING CODE 3410-10-P